DEPARTMENT OF ENERGY

Federal Energy Regulatory Commission

[Docket No. RP00-340-000]

Koch Gateway Pipeline Company; Notice of Technical Conference

October 6, 2000.

On June 15, 2000, Koch Gateway Pipeline Company (Kock Gateway) filed in compliance with Order No. 637. A technical conference to discuss the various issues raised by Koch's filing was held on Wednesday, September 20, 2000.

Take notice that a second technical conference to discuss the issue of segmentation on Kock's system will be held Wednesday, October 25, 2000, at 9:00 am, in a room to be designated at the offices of the Federal Energy Regulatory Commission, 888 First Street, NE, Washington, DC 20426.

All interested persons and Staff are permitted to attend.

Linwood A. Watson, Jr.,
Acting Secretary.

[FR Doc. 00-26289 Filed 10-12-00; 8:45 am]

BILLING CODE 6717-01-M